DEPARTMENT OF ENERGY

Federal Energy Regulatory Commission

[Docket No. ER00-3112-000]

Madison Gas and Electric Company; Notice of Filing

July 17, 2000.

Take notice that on July 10, 2000, Madison Gas and Electric Company (MGE) tendered for filing service agreements under MGE's Market-Based Power Sales Tariff with:

• GEN~SYS Energy

• Northern States Power Company

MGE requests the agreements be effective on the date they were filed with the FERC.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 31, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-18475 Filed 7-20-00; 8:45 am]

BILLING CODE 6717-01-M